DEPARTMENT OF ENERGY

Federal Energy Regulatory Commission

[Docket No. RP98-52-000]

Williams Gas Pipelines Central, Inc; Notice of New Location for Informal Settlement Conference

June 30, 2000.

The informal settlement conference scheduled for July 11, 2000, in the above-captioned docket has been relocated. The new location for the informal settlement conference is the Andy Kirk Conference Room, 3rd floor, Kansas City Marriot Downtown, 200 West 12th Street, Kansas City, Missouri 64105. The informal settlement conference will begin at 9:30 a.m.

All interested parties in the above dockets are requested to attend the informal settlement conference. If a party has any questions respecting the conference, please call Richard Miles, the Director of the Dispute Resolution Service. His telephone number is 1 877 FERC ADR (337-2237) or 202-208-0702 and his e-mail address is richard.miles@ferc.fed.us.

David P. Boergers,
Secretary.

[FR Doc. 00-17212 Filed 7-6-00; 8:45 am]

BILLING CODE 6717-01-M